DEPARTMENT OF AGRICULTURE

Foreign Agricultural Service

WTO Agricultural Quantity-Based Safeguard Trigger Levels

AGENCY: Foreign Agricultural Service, U.S. Department of Agriculture.

ACTION: Notice of product coverage and trigger levels for safeguard measures provided for in the World Trade Organization (WTO) Agreement on Agriculture.

SUMMARY: This notice lists the updated quantity-based trigger levels for products which may be subject to additional import duties under the safeguard provisions of the WTO Agreement on Agriculture. This notice also includes the relevant period applicable for the trigger levels on each of the listed products.

DATES: June 29, 2015.

FOR FURTHER INFORMATION CONTACT: Safeguard Staff, Import Policies and Export Reporting Division, Office of Trade Programs, Foreign Agricultural Service, U.S. Department of Agriculture, Stop 1020, 1400 Independence Avenue SW., Washington, DC 20250-1020; by telephone (202) 720-0638; or by fax (202) 720-0876.

SUPPLEMENTARY INFORMATION: Article 5 of the WTO Agreement on Agriculture provides that additional import duties may be imposed on imports of products subject to tariffication as a result of the Uruguay Round, if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994, 60 FR 1005 (Jan. 4, 1995). The Secretary of Agriculture further delegated this duty, which lies with the Administrator of the Foreign Agricultural Service (7 CFR 2.43(a)(2)). The Annex to this notice contains the updated quantity trigger levels.

Additional information on the products subject to safeguards and the additional duties which may apply can be found in subchapter IV of Chapter 99 of the Harmonized Tariff Schedule of the United States (2014) and in the Secretary of Agriculture's Notice of Uruguay Round Agricultural Safeguard Trigger Levels, published in the Federal Register at 60 FR 427 (Jan. 4, 1995).

Notice: As provided in Section 405 of the Uruguay Round Agreements Act, consistent with Article 5 of the WTO Agreement on Agriculture, the safeguard quantity trigger levels previously notified are superceded by the levels indicated in the Annex to this notice. The definitions of these products were provided in the Notice of Safeguard Action published in the Federal Register, at 60 FR 427 (Jan. 4, 1995).

Issued at Washington, DC, this 4th day of June 2015.
Philip C. Karsting,
Administrator, Foreign Agricultural Service.

ANNEX

Quantity-Based Safeguard Trigger
Product | Trigger level | Period
Beef | 276,008 mt | January 1, 2015 to December 31, 2015.
Mutton | 3,233 mt | January 1, 2015 to December 31, 2015.
Cream | 12,129 liters | January 1, 2015 to December 31, 2015.
Evaporated or Condensed Milk | 1,097,885 kilograms | January 1, 2015 to December 31, 2015.
Nonfat Dry Milk | 524,659 kilograms | January 1, 2015 to December 31, 2015.
Dried Whole Milk | 3,293,081 kilograms | January 1, 2015 to December 31, 2015.
Dried Cream | 662 kilograms | January 1, 2015 to December 31, 2015.
Dried Whey/Buttermilk | 34,560 kilograms | January 1, 2015 to December 31, 2015.
Butter | 9,414,976 kilograms | January 1, 2015 to December 31, 2015.
Butter Oil and Butter Substitutes | 5,840,777 kilograms | January 1, 2015 to December 31, 2015.
Dairy Mixtures | 14,384,611 kilograms | January 1, 2015 to December 31, 2015.
Blue Cheese | 4,779,080 kilograms | January 1, 2015 to December 31, 2015.
Cheddar Cheese | 9,768,173 kilograms | January 1, 2015 to December 31, 2015.
American-Type Cheese | 14,668 kilograms | January 1, 2015 to December 31, 2015.
Edam/Gouda Cheese | 7,700,542 kilograms | January 1, 2015 to December 31, 2015.
Italian-Type Cheese | 18,291,760 kilograms | January 1, 2015 to December 31, 2015.
Swiss Cheese with Eye Formation | 26,807,720 kilograms | January 1, 2015 to December 31, 2015.
Gruyere Process Cheese | 3,551,763 kilograms | January 1, 2015 to December 31, 2015.
Lowfat Cheese | 149,910 kilograms | January 1, 2015 to December 31, 2015.
NSPF Cheese | 50,415,571 kilograms | January 1, 2015 to December 31, 2015.
Peanuts | 20,493 mt | April 1, 2014 to March 31, 2015.
| 19,037 mt | April 1, 2015 to March 31, 2016.
Peanut Butter/Paste | 3,527 mt | January 1, 2015 to December 31, 2015.
Raw Cane Sugar | 599,416 mt | October 1, 2014 to September 30, 2015.
| 676,944 mt | October 1, 2015 to September 30, 2016.
Refined Sugar and Syrups | 198,613 mt | October 1, 2014 to September 30, 2015.
| 177,579 mt | October 1, 2015 to September 30, 2016.
Blended Syrups | 60 mt | October 1, 2014 to September 30, 2015.
| 87 mt | October 1, 2015 to September 30, 2016.
Articles Over 65% Sugar | 269 mt 385 mt | October 1, 2014 to September 30, 2015. October 1, 2015 to September 30, 2016.
Articles Over 10% Sugar | 15,471 mt 20,158 mt | October 1, 2014 to September 30, 2015. October 1, 2015 to September 30, 2016.
Sweetened Cocoa Powder | 84 mt 86 mt | October 1, 2014 to September 30, 2015. October 1, 2015 to September 30, 2016.
Chocolate Crumb | 11,646,383 kilograms | January 1, 2015 to December 31, 2015.
Lowfat Chocolate Crumb | 478,061 kilograms | January 1, 2015 to December 31, 2015.
Infant Formula Containing Oligosaccharides | 210,818 kilograms | January 1, 2015 to December 31, 2015.
Mixes and Doughs | 170 mt | October 1, 2014 to September 30, 2015.
| 230 mt | October 1, 2015 to September 30, 2016.
Mixed Condiments and Seasonings | 653 mt | October 1, 2014 to September 30, 2015.
| 961 mt | October 1, 2015 to September 30, 2016.
Ice Cream | 2,552,994 liters | January 1, 2015 to December 31, 2015.
Animal Feed Containing Milk | 53,195 kilograms | January 1, 2015 to December 31, 2015.
Short Staple Cotton | 2,899,397 kilograms | September 20, 2014 to September 19, 2015.
| 2,330,949 kilograms | September 20, 2015 to September 19, 2016.
Harsh or Rough Cotton | 0 kilograms 0 kilograms | August 1, 2014 to July 31, 2015. August 1, 2015 to July 31, 2016.
Medium Staple Cotton | 57,587 kilograms 48,783 kilograms | August 1, 2014 to July 31, 2015. August 1, 2015 to July 31, 2016.
Extra Long Staple Cotton | 860,694 kilograms 1,505,611 kilograms | August 1, 2014 to July 31, 2015. August 1, 2015 to July 31, 2016.
Cotton Waste | 443,246 kilograms | September 20, 2014 to September 19, 2015.
| 793,048 kilograms | September 20, 2015 to September 19, 2016.
Cotton, Processed, Not Spun | 4,035 kilograms 2,058 kilograms | September 20, 2014 to September 19, 2015. September 20, 2015 to September 19, 2016.

[FR Doc. 2015-15880 Filed 6-26-15; 8:45 am]

BILLING CODE 3410-10-P